ENVIRONMENTAL PROTECTION AGENCY

[FRL-7935-3]

Receipt of Requests for Initial Certification of Predictive Emission Monitoring Systems

AGENCY: Environmental Protection Agency (EPA).

ACTION: Notice of data availability; request for public comment.

SUMMARY: Notice is hereby given of receipt of requests for initial certification of alternative monitoring systems for nitrogen oxides emissions under the Acid Rain Program or the NOX Budget Program. The emissions monitoring regulations require EPA to provide notice of each request in the Federal Register and, following a public comment period of 60 days, to approve or disapprove the request. EPA has recently received requests for initial certification of nine alternative monitoring systems. All of these are predictive emission monitoring systems (PEMS). In order to be considered equivalent to a continuous emission monitoring system, each of these PEMS must meet the regulatory requirements for approval of an alternative monitoring system. EPA has conditionally approved three of these PEMS and is still reviewing the other six PEMS petitions.

DATES: Written comments on the proposed consent decree must be received by September 12, 2005.

ADDRESSES: Submit your comments, identified by docket ID number OAR-2005-0099, online at http://www.epa.gov/edocket (EPA's preferred method); by e-mail to a-and-r-Docket@epa.gov; mailed to EPA Docket Center, Environmental Protection Agency, Mailcode: 2822T, 1200 Pennsylvania Ave., NW., Washington, DC 20460-0001; or by hand delivery or courier to EPA Docket Center, EPA West, Room B108, 1301 Constitution Ave., NW., Washington, DC 20004, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: John Schakenbach, Clean Air Markets Division (6204J), Office of Air and Radiation, U.S. Environmental Protection Agency, 1200 Pennsylvania Ave., NW., Washington, DC 20460, telephone: (202) 343-9158.

SUPPLEMENTARY INFORMATION:

I. Additional Information About the Certification Requests

Requests for initial certification of nitrogen oxides (NOX) PEMS have been received from the following sources, each subject to either the Acid Rain Program or the NOX Budget Program, or both:

MeadWestvaco (Alabama)

—1 gas-fired combustion turbine (conditionally approved); and

—1 gas-fired, pressurized furnace industrial boiler (conditionally approved)

Dearborn Industrial Generation (Michigan)

—3 gas-fired boilers; and

—3 gas-fired combustion turbines (one conditionally approved)

Braintree Electric Light Department (Massachusetts)

—1 gas- and oil-fired combustion turbine (Potter II Station)

Pursuant to § 75.20(f) of Title 40 of the Code of Federal Regulations, for a period of sixty (60) days following the date of publication of this notice, the Agency will receive written comments relating to the requests for initial certification of the nine PEMS. EPA may disapprove a request for initial certification of a PEMS if the comments disclose facts or considerations that indicate that such approval is inappropriate, improper, inadequate, or inconsistent with the requirements of the Act or if the request otherwise fails to meet the requirements of part 75, subpart E, available at: http://www.epa.gov/airmarkets/monitoring/consolidated then click on Volume 1.

II. Additional Information About Commenting on the Requests

A. How Can I Get a Copy of the Requests?

EPA has established an official public docket for this action under Docket ID No. OAR-2005-0099, which contains a copy of the requests. The official public docket is available for public viewing at the Air Docket in the EPA Docket Center, EPA West, Room B108, 1301 Constitution Ave., NW., Washington, DC 20004. The EPA Docket Center Public Reading Room is open from 8:30 a.m. to 4:30 p.m., Monday through Friday, excluding legal holidays. The telephone number for the Public Reading Room is (202) 566-1744, and the telephone number for the Air Docket is (202) 566-1742.

An electronic version of the public docket is available through EPA's electronic public docket and comment system, EPA Dockets. You may use EPA Dockets at http://www.epa.gov/edocket/ to submit or view public comments, access the index listing of the contents of the official public docket, and access those documents in the public docket that are available electronically. Once in the system, select “search”, and then key in the appropriate docket identification number.

It is important to note that EPA's policy is that public comments, whether submitted electronically or in paper, will be made available for public viewing in EPA's electronic public docket as EPA receives them and without change, unless the comment contains copyrighted material, confidential business information, or other information whose disclosure is restricted by statute. Information claimed as confidential business information and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: June 14, 2005.
Sam Napolitano,
Director, Clean Air Markets Division, Office of Air and Radiation.

[FR Doc. 05-13784 Filed 7-12-05; 8:45 am]

BILLING CODE 6560-50-P